DEPARTMENT OF COMMERCE

National Oceanic and Atmospheric Administration

[I.D. 010202A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on January 21- 24, 2002.

ADDRESSES: These meetings will be held at the Holiday Inn Fort Brown, 1900 East Elizabeth Street, Brownsville, TX 78520; telephone: 956-546-2201. Council address: Gulf of Mexico Fishery Management Council, 3018 U.S. Highway 301 North, Suite 1000, Tampa, FL 33619.

FOR FURTHER INFORMATION CONTACT: Wayne E. Swingle, Executive Director, telephone: 813-228-2815.

SUPPLEMENTARY INFORMATION:

January 21

8:30 a.m. thru 10:30 a.m.-Convene the Mackerel Management Committee to develop recommendations for mackerel and cobia status determination criteria. The full Council will consider these recommendations on Thursday morning.

10:30 a.m. thru 11:30 a.m.-Convene the Shrimp Management Committee to hear a NMFS report on the Texas closure analyses and make recommendation for the full Council for discussion on Thursday morning.

1 p.m. thru 5:30 p.m.-Convene the Reef Fish Management Committee to review a draft regulatory amendment containing alternatives for rebuilding of the red grouper stock and to hear the total allowable catch (TAC) recommendations of the scientific panels and Reef Fish Advisory Panel (AP) for gag, vermillion snapper, and gray triggerfish. The Committee will also discuss development of a red snapper individual transferable quota protocol.

January 22

8:30 a.m. thru 10:30 a.m.-Continue the Reef Fish Management Committee, if necessary.

10:30 a.m. thru 11:30 a.m.-Convene the Deep-Water Crab Management Committee to discuss an options paper for the development of a Deep-water Crab Fishery Management Plan (FMP). The species that would be managed under the Deep-water Crab FMP will be the golden crab (Chaceon fenneri) and red crab (Chaceon quinquedens). The preliminary issues and options paper for the development of a Deep-water Crab FMP examines fisheries issues including management needs, gear requirements and restrictions, crab size and sex limitations for harvest, and requirements for fishery participants.

1 p.m. thru 3:30 p.m.-Convene the Administrative Policy Committee to discuss congressional bills entitled the “Fishery Recovery Act” and “Freedom to Fish Act.” The Committee recommendations will be considered by the Council as recommendations for amending the Magnuson-Stevens Fishery Conservation & Management Act (Magnuson Stevens Act).

3:30 p.m. thru 4:30 p.m.-(Closed Session) Convene the AP Selection Committee to recommend members for two Ad Hoc panels to review preparation of a supplemental environmental impact statement (SEIS) for the Essential Fish Habitat (EFH) Amendment. 4:30 p.m. thru 5:30 p.m.-(Closed Session) Convene the Personnel Committee to consider revisions to the personnel section of the Administrative Handbook.

January 23

8:30 a.m.-Convene Council.

8:45 a.m. thru 12 noon-Receive public testimony on the Texas closure, overfishing and overfished criteria for mackerel and cobia, and TAC recommendations for gag grouper, vermillion snapper, and gray triggerfish. Although the Council will hear public testimony on TAC for these three stocks, final action on gag will not be taken until the March Council meeting in Mobile, AL or the May Council meeting in Destin, FL. Final action on gray triggerfish will be taken at the March Council meeting in Mobile, AL.

1:30 p.m. thru 5:30 p.m.-Receive the report of the Reef Fish Management Committee.

5 p.m. thru 5:30 p.m.-(Closed Session) Receive a report of the AP Selection Committee.

5:30 p.m. thru 5:45 p.m.-(Closed Session) Receive a report of the Personnel Committee. January 24

8:30 a.m. thru 8:45 a.m.-Receive a report of the AP Selection Committee.

8:45 a.m. thru 9:30 a.m.-Receive a report of the Mackerel Management Committee.

9:30 a.m. thru 9:45 a.m.-Receive a report of the Shrimp Management Committee.

9:45 a.m. thru 10:15 a.m.-Receive a report of the Deep-Water Crab Management Committee.

10:15 a.m. thru 12 noon-Receive a report of the Administrative Policy Committee.

1:30 p.m. thru 2:30 p.m.-Receive a status report on contract for preparation of SEIS for the EFH Amendment.

2:30 p.m. thru 2:45 p.m.-Receive a report of the Coral Reef Task Team Meeting.

2:45 p.m. thru 3 p.m.-Receive a report on the Gulf and South Atlantic Fishery Foundation turtle excluder device workshop.

3 p.m. thru 3:30 p.m.-Receive Enforcement Reports.

3:30 p.m. thru 3:45 p.m.-Receive the NMFS Regional Administrator’s Report.

3:45 p.m. thru 4 p.m.-Receive Director’s Reports.

4 p.m. thru 4:15 p.m.-Other Business

Although non-emergency issues not contained in the agenda may come before the Council for discussion, in accordance with the Magnuson Stevens Act, those issues may not be the subject of formal Council action during this meeting. Council action will be restricted to those issues specifically identified in this notice and any issues arising after publication of this notice that require emergency action under section 305 (c) of the Magnuson Stevens Act, provided the public has been notified of the Council’s intent to take final action to address the emergency. A copy of the Committee schedule and agenda can be obtained by calling 813 228-2815.

Special Accommodations

These meetings are physically accessible to people with disabilities. Requests for sign language interpretation or other auxiliary aids should be directed to Anne Alford at the Council (see ADDRESSES) by January 14, 2002.

Dated: January 2, 2002.
Richard W. Surdi,
Acting Director, Office of Sustainable Fisheries, National Marine Fisheries Service.

[FR Doc. 02-319 Filed 1-4-02; 8:45 am]

BILLING CODE 3510-22-S